FEDERAL COMMUNICATIONS COMMISSION

Notice of Public Information Collection(s) Being Reviewed by the Federal Communications Commission, Comments Requested

July 19, 2006.

SUMMARY: The Federal Communications Commission, as part of its continuing effort to reduce paperwork burden, invites the general public and other Federal agencies to take this opportunity to comment on the following information collection(s), as required by the Paperwork Reduction Act (PRA) of 1995, Public Law No. 104-13. An agency may not conduct or sponsor a collection of information unless it displays a currently valid control number. No person shall be subject to any penalty for failing to comply with a collection of information, subject to the Paperwork Reduction Act that does not display a valid control number. Comments are requested concerning (a) whether the proposed collection of information is necessary for the proper performance of the functions of the Commission, including whether the information shall have practical utility; (b) the accuracy of the Commission's burden estimate; (c) ways to enhance the quality, utility, and clarity of the information collected; and (d) ways to minimize the burden of the collection of information on the respondents, including the use of automated collection techniques or other forms of information technology.

DATES: Written Paperwork Reduction Act (PRA) comments should be submitted on or before October 2, 2006. If you anticipate that you will be submitting comments, but find it difficult to do so within the period of time allowed by this notice, you should advise the contact listed below as soon as possible.

ADDRESSES: You may submit your Paperwork Reduction Act (PRA) comments by e-mail or U.S. postal mail. To submit your comments by e-mail send them to: PRA@fcc.gov. To submit your comments by U.S. mail, mark it to the attention of Leslie F. Smith, Federal Communications Commission, 445 12th Street, SW., Room 1-A804, Washington, DC 20554.

FOR FURTHER INFORMATION CONTACT: For additional information about the information collection(s) send an e-mail to PRA@fcc.gov or contact Leslie F. Smith at 202-418-0217.

SUPPLEMENTARY INFORMATION: OMB Control Number: 3060-0809.

Title: Communications Assistance for Law Enforcement Act (CALEA).

Form Number: N/A.

Type of Review: Revision of a currently approved collection.

Respondents: Business or other for profit entities; State, local, or tribal governments.

Number of Respondents: 8,824.

Estimated Time per Response: 1-80 hours.

Frequency of Response: Recordkeeping; On occasion reporting requirements.

Total Annual Burden: 107,118 hours.

Total Annual Costs: N/A.

Privacy Impact Assessment: No impact(s).

Needs and Uses: The Communications Assistance for Law Enforcement Act (CALEA) requires the Commission to create rules that regulate the conduct and recordkeeping of lawful electronic surveillance. CALEA was enacted in October 1994 to respond to rapid advances in telecommunications technology and eliminates obstacles faced by law enforcement personnel in conducting electronic surveillance. Section 105 of CALEA requires telecommunications carriers to protect against the unlawful interception of communications passing through their systems. Law enforcement officials use the information maintained by telecommunications carriers to determine the accountability and accuracy of telecommunications carriers' compliance with lawful electronic surveillance orders.

On May 12, 2006, the Commission released a Second Report and Order and Memorandum Opinion and Order in ET Docket No. 04-195, FCC 06-56, which will become effective August 4, 2006. The Second Report and Order established guidelines for filing section 107(c), section 109(b) petitions and monitoring reports. Section 107(c)(1) permits a petitioner to apply for an extension of time, up to two years from the date that the petition is filed, and to come into compliance with a particular CALEA section 103 capability requirement. CALEA section 109(b) permits a telecommunication carrier covered by CALEA to file a petition with the FCC and an application with the Department of Justice (DOJ) to request that DOJ pay the costs of the carrier's CALEA compliance (cost-shifting relief) with respect to any equipment, facility or service installed or deployed after January 1, 1995. The Second Report and Order requires several different collections of information:

(a) Within 90 days of the effective date of the Second Report and Order, facilities based broadband Internet access and interconnected Voice over Interconnected Protocol (VOIP providers newly identified in the First Report and Order in this proceeding will be required to file system security statements under the Commission's rules. (Security systems are currently approved under the existing OMB 3060-0809 information collection).

(b) Petitions filed under Section 107(c), request for additional time to comply with CALEA, these provisions apply to all carriers subject to CALEA and are voluntary filings.

(c) Section 109(b), request for reimbursement of CALEA, would modified, these provisions apply to all carriers subject to CALEA and are voluntary filings.

(d) A new collection would require each carrier that has a CALEA section 107(c) extension petition currently on file to submit to the Commission a letter documenting that the carrier's equipment, facility or service qualifies for section 107(c) relief under the October 25, 1998, cutoff for such relief.

(e) A new collection would require all carriers providing facilities based broadband Internet access or interconnected VOIP services to file monitoring reports with the Commission to ensure timely CALEA compliance.

Federal Communications Commission.
Marlene H. Dortch,
Secretary.

[FR Doc. E6-12325 Filed 7-31-06; 8:45 am]

BILLING CODE 6712-01-P